DEPARTMENT OF TRANSPORTATION

Coast Guard

[USCG-2002-13487]

Environmental Assessment of Implementation of the Coast Guard Training Center Cape May's Integrated Natural Resource Management Plan

AGENCY: Coast Guard, DOT.

ACTION: Notice of availability and request for comments.

SUMMARY: The Coast Guard announces the availability of an Environmental Assessment (EA) of Implementation of the Coast Guard Training Center Cape May's Integrated Natural Resources Management Plan (INRMP) Cape May, New Jersey. The Coast Guard concluded that the implementation of the INRMP would not have a significant, adverse impact on the environment and therefore has issued a draft Finding of No Significant Impact (FONSI). We request your comments on the EA, INRMP and draft FONSI.

DATES: Comments must reach the Coast Guard on or before November 20, 2002.

ADDRESSES: To make sure your comments and related material are not entered more than once in the docket, please submit them by only one of the following means:

(1) By mail to the Docket Management Facility, (USCG-2002-13487), U.S. Department of Transportation, room PL-401, 400 Seventh Street SW., Washington, DC 20590-0001.

(2) By delivery to Mr. Chris Hajduk, Chief—Environmental Protection and Safety Section, U.S. Coast Guard Training Center Cape May, 1 Munro Avenue, Cape May, New Jersey, 08204 or by e-mail at chajduk@tracencapemay.uscg.mil

(3) By fax to the Docket Management Facility at 202-493-2251.

(4) Electronically through the Web Site for the Docket Management System at http://dms.dot.gov.

The Docket Management Facility maintains the public docket for this notice. Comments and material received from the public, as well as the INRMP, EA, and draft FONSI, will become part of this docket and will be available for inspection or copying at room PL-401 on the Plaza level of the Nassif Building, 400 Seventh Street SW., Washington, DC, between 9 a.m. and 5 p.m., Monday through Friday, except Federal holidays. The INRMP, EA, and draft FONSI also will be available for inspection or copying at the Cape May County Library, 30 West Mechanic St., Cape May Court House, NJ 08210, telephone: 609-463-6350. You may also find this docket, including the EA, on the Internet at http://dms.dot.gov.

FOR FURTHER INFORMATION CONTACT: If you have questions on this notice, the proposed project, or the associated INRMP, contact Mr. Chris Hajduk, Chief—Environmental Protection and Safety Section, U.S. Coast Guard Training Center Cape May, telephone 609-898-6889, or via e-mail at chajduk@tracencapemay.uscg.mil. If you have questions on viewing or submitting material to the docket, call Ms. Dorothy Beard, Chief, Dockets, Department of Transportation, and telephone 202-366-5149.

SUPPLEMENTARY INFORMATION:

Request for Comments

We encourage you to review and submit comments on the Environmental Assessment (EA) of our Integrated Natural Resource Management Plan (INRMP) for the Coast Guard Training Center in Cape May, New Jersey, and our draft Finding Of No Significant Impact (FONSI). If you do so, please include your name and address, identify the docket number (USCG-2002-13478), indicate the specific document and section of that document to which each comment applies, and give the reason for each comment. Please submit all comments and related material in an unbound format, no larger than 8½ by 11 inches, suitable for copying. If you would like to know that your submission reached us, please enclose a stamped, self-addressed postcard or envelope. We will consider all comments and material received during the comment period.

Proposed Action

We have prepared an EA. The EA identifies and examines the reasonable alternatives and assesses their potential environmental impact. Our preferred alternative is to implement the Integrated Natural Resources Management Plan (INRMP).

We are requesting your comments on environmental concerns you may have related to the EA and the draft FONSI. This includes suggesting analyses and methodologies for use in the EA or possible sources of data or information not included in the EA. Your comments will be considered in preparing the complete EA.

Environmental Assessment and Draft Finding of No Significant Impact

The EA examines potential effects of the proposed action of implementing the INRMP on 20 resource areas: environmental setting, climate, air quality, noise, topography, geology, soils, water resources, wetlands, floodplain and coastal zones, aquatic habitat, riparian habitat, terrestrial ecosystems, fauna, endangered, threatened, and rare species, land use, facilities, hazardous and toxic materials, socioeconomic resources, and environmental justice. The INRMP integrates all aspects of natural resource management at TRACEN Cape May, and identifies management approaches that would benefit local ecosystems. The INRMP was developed using an interdisciplinary approach that solicited information from a variety of Federal, state, and local agencies and groups. An INRMP Focus Group was formed, which included key Installation personnel and individuals from various agencies and groups that have an interest in TRACEN Cape May and the management of its resources. Agencies involved in the process include U.S. Fish and Wildlife Service and New Jersey Division of Fish and Wildlife Management. Proper utilization of this Plan for the conservation of natural resources should not impair the ability of the Installation to perform its mission(s).

The EA concluded that the implementation of the INRMP would not have a significant, adverse impact on the environment—resulting in the issuance of a draft Finding Of No Significant Impact (FONSI). An Environmental Impact Statement is not required prior to implementation of the proposed action.

Dated: October 10, 2002.
D.S. Klipp,
Commander, U.S. Coast Guard, Facilities Engineer, Coast Guard Training Center Cape May.

[FR Doc. 02-26720 Filed 10-18-02; 8:45 am]

BILLING CODE 4910-15-P